DEPARTMENT OF ENERGY

Office of Nuclear Energy, Science and Technology; Nuclear Energy Research Advisory Committee; Notice of Renewal

Pursuant to section 14(a)(2)(A) of the Federal Advisory Committee Act, App.2, and section 102-3.65, title 41, Code of Federal Regulations and following consultation with the Committee Management Secretariat, General Services Administration, notice is hereby given that the Nuclear Energy Advisory Committee has been renewed for a six month period.

The Committee will provide advice to the Office of Nuclear Energy, Science and Technology on long-range planning and priorities in the nuclear energy program. The Secretary of Energy has determined that renewal of the Nuclear Energy Research Advisory Committee is essential to conduct the business of the Department of Energy and is in the public interest in connection with the performance of duties imposed by law upon the Department of Energy. The Committee will continue to operate in accordance with the provisions of the Federal Advisory Committee Act (Pub. L. 92-463), the General Services Administration Final Rule on Federal Advisory Committee Management, and other directives and instructions issued in implementation of those acts.

FOR FURTHER INFORMATION CONTACT: Ms. Rachel Samuel at (202) 586-3279.

Issued in Washington, DC, on May 18, 2005.
Carol Matthews,
Acting Advisory Committee Officer.

[FR Doc. 05-10427 Filed 5-24-05; 8:45 am]

BILLING CODE 6450-01-M